DEPARTMENT OF COMMERCE

National Oceanic and Atmospheric Administration

RIN 0648-XG257

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Regional Administrator, West Coast Region, NMFS, has made a preliminary determination that an application for an Exempted Fishing Permit warrants further consideration. The application, submitted by the California Wetfish Producers Association, requests an exemption from the prohibition of primary directed fishing for Pacific sardine for the 2018-2019 fishing year to collect Pacific sardine as part of an industry-based scientific survey. NMFS requests public comment on the application.

DATES: Comments must be received by August 2, 2018.

ADDRESSES: You may submit comments on this document, identified by NOAA-NMFS-2018-0072, by any of the following methods:

• Electronic Submissions: Submit all electronic public comments via the Federal e-Rulemaking Portal. Go to www.regulations.gov/#!docketDetail;D=NOAA-NMFS-2018-0072, click the “Comment Now!” icon, complete the required fields, and enter or attach your comments. The EFP application will be available under Relevant Documents through the same link.

• Mail: Submit written comments to Joshua Lindsay, West Coast Region, NMFS, 501 W. Ocean Blvd., Ste. 4200, Long Beach, CA 90802-4250.

• Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

FOR FURTHER INFORMATION CONTACT: Joshua Lindsay, West Coast Region, NMFS, (562) 980-4034, joshua.lindsay@noaa.gov.

SUPPLEMENTARY INFORMATION: On June 25, 2018, NMFS published a final rule (83 FR 29461) to implement Pacific sardine harvest specifications for the 2018-2019 fishing year off the U.S. West Coast, which began on July 1. This final rule imposed a 7,000 metric ton (mt) annual catch limit (ACL) and a prohibition on primary directed fishing for Pacific sardine off the coasts of Washington, Oregon, and California. This prohibition against “primary directed fishing” covers any targeting of Pacific sardine, except very small-scale artisanal harvests, live bait harvests, and harvests by the Quinault Indian Nation. At the April 2018 Pacific Fishery Management Council (Council) meeting, the Council voted in support of two exempted fishing permit (EFP) proposals requesting an exemption from the prohibition on primary directed fishing for Pacific sardine. The Council structured the 2018-2019 Pacific sardine harvest specifications so that up to 610 mt (the combined total of the anticipated harvests under the two EFP proposals the Council reviewed) of the ACL could be harvested under EFPs. The California Wetfish Producers Association (CWPA) requested an EFP to directly harvest up to 600 mt of Pacific sardine for its Coastal Pelagic Species Near-shore Cooperative Survey (CPS-NCS).

Since 2012 the California Department of Fish and Wildlife, in partnership with the CWPA, has been conducting aerial surveys to estimate the biomass and distribution of sardine and certain other CPS species in nearshore waters in the Southern California Bight, and in the Monterey-San Francisco area since the summer of 2017. Currently, there is uncertainty in the biomass estimates from aerial spotter pilots. The CPS-NCS survey under the proposed EFP is part of a research project designed to quantify that level of uncertainty by capturing CPS schools identified by aerial spotter pilots and validating the biomass and species composition of the schools. A portion of each point set (i.e. an individual haul of fish captured with a purse seine net) will be retained for biological sampling, and the remainder will be sold by the participating fishermen and processors to offset research costs and avoid unnecessary discard. This research is part of a broader effort to understand the biomass of CPS located in shallower, nearshore areas that NOAA's CPS offshore acoustic trawl survey is unable to access.

If NMFS issues this EFP, the CPS-NCS will survey nearshore waters of the Southern California Bight for 7 days in late August 2018. Any harvest under this EFP would count against the ACL for Pacific sardine. If NMFS does not issue this EFP, then the 600 mt that might have been harvested under this EFP would still be available for harvest under the ACL.

Authority: 16 U.S.C. 1801 et seq.

Dated: July 13, 2018.
Margo B. Schulze-Haugen,
Acting Director, Office of Sustainable Fisheries, National Marine Fisheries Service.

[FR Doc. 2018-15342 Filed 7-17-18; 8:45 am]

BILLING CODE 3510-22-P